ENVIRONMENTAL PROTECTION AGENCY

[EPA-HQ-OPP-2021-0224; FRL-8904-01-OCSPP]

Disapproval of Pesticide Product State Registrations for Special Local Needs

AGENCY: Environmental Protection Agency (EPA).

ACTION: Notice.

SUMMARY: As provided under the Federal Insecticide, Fungicide, and Rodenticide Act (FIFRA), State-designated lead agencies may register pesticides, within their respective States, to meet special local needs. EPA's regulations require the State lead agencies to notify EPA of such special local need registrations. EPA may disapprove any such State registration. EPA's regulations require that notice of disapproval actions be published in the Federal Register; as such this notice identifies special local need registrations which were disapproved by EPA on March 15, 2021, April 9, 2021, and April 23, 2021.

DATES: September 13, 2021.

FOR FURTHER INFORMATION CONTACT: Marietta Echeverria, Acting Director, Registration Division (7505P), Office of Pesticide Programs, Environmental Protection Agency, 1200 Pennsylvania Ave. NW, Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. How can I get copies of this document and other related information?

The docket for this action, identified by docket identification (ID) number EPA-HQ-OPP-2021-0224, is available at https://www.regulations.gov or at the OPP Docket in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805.

Due to the public health concerns related to COVID-19, the EPA Docket Center (EPA/DC) and Reading Room is closed to visitors with limited exceptions. The staff continues to provide remote customer service via email, phone, and webform. For the latest status information on EPA/DC services and docket access, visit https://www.epa.gov/dockets.

II. Background

Section 24(c) of FIFRA (7 U.S.C. 136v(c)) authorizes States to register “additional uses of federally registered pesticides to meet special local needs.” Pursuant to FIFRA section 24(c), EPA's regulations at 40 CFR 162.154(h) require States to notify EPA of such special local needs registrations. EPA's regulations pertaining to such special local need registrations state that “the Administrator may disapprove, on any reasonable grounds, any state [special local needs] registration . . . Grounds for disapproval . . . include . . . [p]robable creation of unreasonable adverse effects on man or the environment by the registered use[and f]ailure of information submitted by the State to support the State's decision to issue the registration under the standards established by § 162.153.” 40 CFR 162.154(a)(1). In addition, FIFRA Section 24(c)(1) precludes state SLN registrations “if registration for such use has . . . previously been denied, disapproved, or canceled by the Administrator, or voluntarily canceled by the registrant subsequent to issuance of a notice of intent to cancel because of health or environmental concerns about an ingredient contained in the pesticide product.” 40 CFR 162.152(a)(3).

III. Disapproval of Special Local Need Registrations

On March 15, 2021, EPA disapproved special local need registrations from the North Carolina Department of Agriculture and Consumer Services to extend the application cut-off dates to July 31 for over-the-top (OTT) use of the following dicamba products on dicamba-tolerant soybean and dicamba-tolerant cotton:

1. EPA SLN No. NC200005—XtendiMax® with Vapor Grip® Technology (EPA Reg. No. 264-1210); containing dicamba.

2. EPA SLN No. NC210001—Engenia® Herbicide (EPA Reg. No. 7969-472); containing dicamba.

On April 9, 2021, EPA disapproved special local need registrations from the Tennessee Department of Agriculture to extend the application cut-off date to July 30 for OTT use of the following dicamba products on dicamba-tolerant soybean:

1. EPA SLN No. TN210001—XtendiMax® with Vapor Grip® Technology (EPA Reg. No. 264-1210); containing dicamba.

2. EPA SLN No. TN210002—Engenia® Herbicide (EPA Reg. No. 7969-472); containing dicamba.

On April 23, 2021, EPA disapproved special local need registrations from the Georgia Department of Agriculture to reduce the annual application training requirement to every other year, remove application cut-off dates and reduce buffer requirements for OTT use of the following dicamba product on dicamba-tolerant soybean and dicamba-tolerant cotton:

EPA SLN No. GA210001—XtendiMax® with Vapor Grip® Technology (EPA Reg. No. 264-1210); containing dicamba.

Additional information may be found in the docket for this action, docket ID number EPA-HQ-OPP-2021-0224, available at https://www.regulations.gov or at the OPP Docket at the Environmental Protection Agency Docket Center. Details on accessing the docket are given in Unit I.B. of this document.

Authority: 7 U.S.C. 136 et seq.

Dated: September 3, 2021.
Marietta Echeverria,
Acting Director, Registration Division, Office of Pesticide Programs.

[FR Doc. 2021-19700 Filed 9-10-21; 8:45 am]

BILLING CODE 6560-50-P